DEPARTMENT OF TRANSPORTATION

Office of the Secretary

Notice of Applications for Certificates of Public Convenience and Necessity and Foreign Air Carrier Permits Filed Under Subpart B (Formerly Subpart Q) During the Week Ending May 18, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28233.

Date Filed: May 14, 2007.

Due Date for Answers, Conforming Applications, or Motion to Modify Scope: June 4, 2007.

Description: Application of AirBridgeCargo Airlines Limited requesting a foreign air carrier permit to engage in Boeing 747 all-cargo scheduled and charter operations between the Russian Federation and the United States.

Docket Number: OST-2005-21157.

Date Filed: May 4, 2007.

Due Date for Answers, Conforming Applications, or Motion to Modify Scope: June 4, 2007.

Description: Application of Executive Airlines, S.L. d/b/a European Executive Airlines (”European Executive”) requesting an exemption and an amended foreign air carrier permit authorizing European Executive to conduct services using small aircraft, in addition to the charter services authorized under its existing foreign air carrier permit, as of March 30, 2008: (a) Charter foreign air transportation of persons, property and mail from points behind EU Member States, via the EU Member States and intermediate points to any point or points in the United States and beyond; (b) charter foreign air transportation of persons, property and mail between any point or points in the United States and any point or points in the European Common Aviation Area (“ECAA”); and (C) other charters (between non-EU/ECAA third countries and the United States, and otherwise) in accordance with 14 CFR Part 212.

Docket Number: OST-2003-14579.

Date Filed: May 18, 2007.

Due Date for Answers, Conforming Applications, or Motion to Modify Scope: June 8, 2007.

Description: Application of Republic Airline Inc. d/b/a Republic Airlines (“Republic”) requesting an amendment of its certificate of public convenience and necessity to remove Condition 4, which limits Republic's scheduled passenger authority to operations conducted under fee-for-service agreements with major U.S. air carriers.

Renee V. Wright,
Program Manager, Docket Operations, Federal Register Liaison.

[FR Doc. E7-10299 Filed 5-29-07; 8:45 am]

BILLING CODE 4910-9X-P